DEPARTMENT OF ENERGY

Federal Energy Regulatory Commission

Combined Notice of Filings #1

Take notice that the Commission received the following Complaints and Compliance filings in EL Dockets:

Docket Numbers: EL24-132-000.

Applicants: CL-Shiloh LLC v. PJM Interconnection, L.L.C.

Description: Complaint of CL-Shiloh LLC v. PJM Interconnection, L.L.C.

Filed Date: 8/13/24.

Accession Number: 20240813-5059.

Comment Date: 5 p.m. ET 9/3/24.

Take notice that the Commission received the following electric rate filings:

Docket Numbers: ER19-1575-012; ER10-2488-029; ER13-1586-024; ER14-2871-023; ER15-463-022; ER15-621-022; ER15-622-022; ER16-72-018; ER16-182-018; ER16-902-015; ER17-47-015; ER17-48-016; ER18-47-015; ER18-2240-011; ER18-2241-011; ER19-427-011; ER19-1660-011; ER19-1662-011; ER19-1667-011; ER20-71-011; ER20-72-011; ER20-75-011; ER20-76-013; ER20-79-011; ER20-77-011; ER21-1368-007; ER21-1369-008; ER21-1371-008; ER21-1373-009; ER21-1376-009; ER21-2782-008; ER22-149-009; ER22-1439-009; ER22-1440-009; ER22-1441-009; ER22-1442-007; ER22-2419-005; ER22-2420-005; ER23-562-005; ER23-1048-005; ER23-2001-005; ER24-916-001; ER24-917-001.

Applicants: Placerita ESS, LLC, Beaumont ESS, LLC, Sagebrush ESS II, LLC, Lockhart ESS, LLC, TGP Energy Management II, LLC, Lockhart Solar PV II, LLC, Lockhart Solar PV, LLC, EdSan 1B Group 3, LLC, EdSan 1B Group 2, LLC, EdSan 1B Group 1 Sanborn, LLC, EdSan 1B Group 1 Edwards, LLC, Sagebrush Line, LLC, Sagebrush ESS, LLC, Sanborn Solar 1A, LLC, Edwards Solar 1A, LLC, Edwards Sanborn Storage II, LLC, Edwards Sanborn Storage I, LLC, Valley Center ESS, LLC, Painted Hills Wind Holdings, LLC, Voyager Wind IV Expansion, LLC, Oasis Plains Wind, LLC, Oasis Alta, LLC, Coachella Wind Holdings, LLC, Coachella Hills Wind, LLC, Terra-Gen VG Wind, LLC, Mojave 16/17/18 LLC, Mojave 3/4/5 LLC, LUZ Solar Partners IX, Ltd., Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Oasis Power Partners, LLC, Alta Oak Realty, LLC.

Description: Notice of Non-Material Change in Status of Alta Oak Realty, LLC.

Filed Date: 8/9/24.

Accession Number: 20240809-5198.

Comment Date: 5 p.m. ET 8/30/24.

Docket Numbers: ER24-1039-001.

Applicants: Altona Solar, LLC.

Description: Notice of Non-Material Change in Status of Altona Solar, LLC.

Filed Date: 8/9/24.

Accession Number: 20240809-5197.

Comment Date: 5 p.m. ET 8/30/24.

Docket Numbers: ER24-2049-001.

Applicants: Midcontinent Independent System Operator, Inc.

Description: Tariff Amendment: 2024-08-14_SA 4290 Deficiency Response NISPCO-Merrillville Solar GIA (J1386) to be effective 7/17/2024.

Filed Date: 8/14/24.

Accession Number: 20240814-5095.

Comment Date: 5 p.m. ET 9/4/24.

Docket Numbers: ER24-2297-000.

Applicants: Ross County Solar, LLC.

Description: Supplement to 06/17/2024 Ross County Solar, LLC tariff filing.

Filed Date: 8/13/24.

Accession Number: 20240813-5189.

Comment Date: 5 p.m. ET 8/23/24.

Docket Numbers: ER24-2394-000.

Applicants: Cataract Coast, LLC, Aurora Trading Company, LLC, Venturi Asset Management, LLC.

Description: Report Filing: Cataract Coast, LLC submits tariff filing per : Cataract Coast LLC Supplemental Filing to be effective N/A.

Filed Date: 8/12/24.

Accession Number: 20240812-5136.

Comment Date: 5 p.m. ET 9/3/24.

Docket Numbers: ER24-2396-000.

Applicants: Venturi Asset Management, LLC.

Description: Report Filing: Venturi Asset Management Supplemental Filing to be effective N/A.

Filed Date: 8/13/24.

Accession Number: 20240813-5001.

Comment Date: 5 p.m. ET 9/3/24.

Docket Numbers: ER24-2399-000.

Applicants: Aurora Trading Company, LLC.

Description: Report Filing: Aurora Trading Supplemental Filing to be effective N/A.

Filed Date: 8/13/24.

Accession Number: 20240813-5000.

Comment Date: 5 p.m. ET 9/3/24.

Docket Numbers: ER24-2769-000.

Applicants: ISO New England Inc.

Description: ISO New England Inc. Submits Capital Budget Quarterly Filing for the Second Quarter of 2024.

Filed Date: 8/9/24.

Accession Number: 20240809-5196.

Comment Date: 5 p.m. ET 8/30/24.

Docket Numbers: ER24-2770-000.

Applicants: Midcontinent Independent System Operator, Inc.

Description: 205(d) Rate Filing: 2024-08-14_SA 4321 MidAmerican-MidAmerican GIA (J1529) to be effective 8/5/2024.

Filed Date: 8/14/24.

Accession Number: 20240814-5023.

Comment Date: 5 p.m. ET 9/4/24.

Docket Numbers: ER24-2771-000.

Applicants: Midcontinent Independent System Operator, Inc.

Description: 205(d) Rate Filing: 2024-08-14_SA 4322 MidAmerican-MidAmerican GIA (J1530) to be effective 8/5/2024.

Filed Date: 8/14/24.

Accession Number: 20240814-5026.

Comment Date: 5 p.m. ET 9/4/24.

Docket Numbers: ER24-2772-000.

Applicants: Tri-State Generation and Transmission Association, Inc.

Description: 205(d) Rate Filing: Amendment to Rate Schedule FERC No. 36 to be effective 10/15/2024.

Filed Date: 8/14/24.

Accession Number: 20240814-5040.

Comment Date: 5 p.m. ET 9/4/24.

Docket Numbers: ER24-2773-000.

Applicants: PJM Interconnection, L.L.C.

Description: Tariff Amendment: Notice of Cancellation of CSA, SA No. 6543; Queue No. AC1-033 to be effective 3/27/2024.

Filed Date: 8/14/24.

Accession Number: 20240814-5042.

Comment Date: 5 p.m. ET 9/4/24.

Docket Numbers: ER24-2774-000.

Applicants: Tri-State Generation and Transmission Association, Inc.

Description: 205(d) Rate Filing: Amendment to Rate Schedule FERC No. 18 to be effective 10/15/2024.

Filed Date: 8/14/24.

Accession Number: 20240814-5051.

Comment Date: 5 p.m. ET 9/4/24.

Docket Numbers: ER24-2776-000.

Applicants: Southern California Edison Company.

Description: Compliance filing: WDAT Order 2023 Compliance Filing to be effective 8/15/2024.

Filed Date: 8/14/24.

Accession Number: 20240814-5073.

Comment Date: 5 p.m. ET 9/4/24.

Docket Numbers: ER24-2777-000.

Applicants: San Diego Gas & Electric.

Description: 205(d) Rate Filing: SDG&amp;E WDAT Update Volume 6 to be effective 8/15/2024.

Filed Date: 8/14/24.

Accession Number: 20240814-5081.

Comment Date: 5 p.m. ET 9/4/24.

Docket Numbers: ER24-2778-000.

Applicants: California Independent System Operator Corporation.

Description: 205(d) Rate Filing: 2024-08-14 Modernize Legacy Reporting Requirements to be effective 10/14/2024.

Filed Date: 8/14/24.

Accession Number: 20240814-5090.

Comment Date: 5 p.m. ET 9/4/24.

Docket Numbers: ER24-2779-000.

Applicants: Tri-State Generation and Transmission Association, Inc.

Description: Tariff Amendment: Notice of Cancellation of Letter Agreement Related to Last Hour to be effective 10/15/2024.

Filed Date: 8/14/24.

Accession Number: 20240814-5093.

Comment Date: 5 p.m. ET 9/4/24.

Docket Numbers: ER24-2780-000.

Applicants: PJM Interconnection, L.L.C.

Description: 205(d) Rate Filing: Original WMPA, Service Agreement No. 7339; AF1-330 to be effective 12/31/9998.

Filed Date: 8/14/24.

Accession Number: 20240814-5097.

Comment Date: 5 p.m. ET 9/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 14, 2024.
Debbie-Anne A. Reese,
Acting Secretary.

[FR Doc. 2024-18647 Filed 8-19-24; 8:45 am]

BILLING CODE 6717-01-P